FEDERAL MARITIME COMMISSION

Ocean Transportation Intermediary License Reissuances

Notice is hereby given that the following Ocean Transportation Intermediary licenses have been reissued by the Federal Maritime Commission pursuant to section 19 of the Shipping Act of 1984, as amended by the Ocean Shipping Reform Act of 1998 (46 U.S.C. app. 1718) and the regulations of the Commission pertaining to the licensing of Ocean Transportation Intermediaries, 46 CFR part 515.

License No. | Name/address | Date reissued
4425F | Esprit International Shipping Combined Transport, Inc. dba Capital Freight Management, 701 S. Atlantic Blvd., #200, Monterey Park, CA 91754 | September 5, 2001.
3644N | Forward Logistics Group, Inc., 1902 Cypress Lake Drive, Suite 200, Orlando, FL 32837 | September 30, 2001.
4513F | Kevin C. Ahn dba Baytop Container Co., 2800 Plaza Del Amo Blvd., Torrance, CA 90503 | September 30, 2001.
16470F | South Beach Maritime Company, 8626 NW 55th Place, Coral Springs, FL 33067 | November 6, 2001.

Sandra L. Kusumoto,
Director, Bureau of Consumer Complaints and Licensing.

[FR Doc. 02-562 Filed 1-8-02; 8:45 am]

BILLING CODE 6730-01-P